DEPARTMENT OF TRANSPORTATION

Surface Transportation Board

[STB Finance Docket No. 34320 (Sub-No. 1)]

Union Pacific Railroad Company—Trackage Rights Exemption—The Burlington Northern and Santa Fe Railway Company

AGENCY: Surface Transportation Board, DOT.

ACTION: Petition for partial revocation.

SUMMARY: The Board, under 49 U.S.C. 10502, exempts the trackage rights described in STB Finance Docket No. 34320 ¹ to permit the trackage rights to expire on or about May 22, 2003, in accordance with the agreement of the parties.

¹ On March 7, 2003, Union Pacific Railroad Company (UP) filed a notice of exemption under the Board's class exemption procedures at 49 CFR 1180.2(d)(7). The notice covered the agreement by The Burlington Northern and Santa Fe Railway Company (BNSF) to grant temporary overhead trackage rights to UP over a BNSF line of railroad between BNSF milepost 203.0 near Keddie, CA, and BNSF milepost 0.0 near Klamath Falls, OR, a distance of approximately 203.0 miles. See Union Pacific Railroad Company—Trackage Rights Exemption—The Burlington Northern and Santa Fe Railway Company, STB Finance Docket No. 34320 (STB served Mar. 26, 2003). The trackage rights operations under the exemption were scheduled to begin on March 16, 2003.

DATES: This exemption will be effective on May 22, 2003. Petitions to reopen must be filed by June 4, 2003.

ADDRESSES: An original and 10 copies of all pleadings referring to STB Finance Docket No. 34320 (Sub-No. 1) must be filed with the Surface Transportation Board, 1925 K Street, NW., Washington, DC 20423-0001. In addition, a copy of all pleadings must be served on petitioners' representative: Robert T. Opal, 1416 Dodge Street, Room 830, Omaha, NE 68179.

FOR FURTHER INFORMATION CONTACT: Joseph H. Dettmar (202) 565-1600 (Federal Information Relay Service (FIRS) for the hearing impaired: 1-800-877-8339).

SUPPLEMENTARY INFORMATION: Additional information is contained in the Board's decision. To purchase a copy of the full decision, write to, call, or pick up in person from: D̄a 2 D̄a Legal Copy Service, Suite 405, 1925 K Street, NW., Washington, DC 20006. Telephone: (202) 293-7776. (Assistance for the hearing impaired is available through FIRS at 1-800-877-8339.)

Board decisions and notices are available on our Web site at www.stb.dot.gov.

Decided: May 9, 2003.
By the Board, Chairman Nober and Commissioner Morgan.
Vernon A. Williams,
Secretary.

[FR Doc. 03-12137 Filed 5-14-03; 8:45 am]

BILLING CODE 4915-00-P